FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final approval under OMB delegated authority to discontinue the following report:

Report title: Survey of Financial Management Behaviors of Military Personnel.

Agency form number: FR 1375.

OMB control number: 7100-0307.

Frequency: Semi-annually.

Reporters: Military personnel.

Estimated annual reporting hours: 2,640 hours.

Estimated average hours per response: 20 minutes.

Number of respondents: 4,000.

General description of report: This information collection is voluntary. The statutory basis for collecting this information includes: The Truth in Lending Act, 15 U.S.C. 1604(a), The Truth in Savings Act, 12 U.S.C. 4308(a), the Equal Credit Opportunity Act, 15 U.S.C. 1691b, and the Fair Credit Reporting Act, 15 U.S.C. 1681m(h)(6), 1681s(e)(1). Further, under the Truth in Lending Act, the Board is required to report annually to Congress and make recommendations concerning the Act, 15 U.S.C. 1613. Respondent participation in the survey is voluntary. No issue of confidentiality normally arises because names and any other characteristics that would permit personal identification of respondents are not reported to the Board.

Abstract: This survey, which was implemented in 2004, gathers data from two groups of military personnel: (1) Those completing a financial education course as part of their advanced individualized training and (2) those not completing a financial education course. These two groups are surveyed on their financial management behaviors and changes in their financial situations over time. Data from the survey help to determine the effectiveness of financial education for young adults in the military and the durability of the effects as measured by financial status of those receiving financial education early in their military careers.

Current Actions: On March 25, 2010, the Federal Reserve published a notice in the Federal Register (75 FR 14440) seeking public comment for 60 days on the discontinuance of the Survey of Financial Management Behaviors of Military Personnel. The comment period for this notice expired on May 24, 2010. The Federal Reserve did not receive any comments.

Final approval under OMB delegated authority of the extension for three years, without revision, of the following report:

Report title: Notification of Nonfinancial Data Processing Activities.

Agency form number: FR 4021.

OMB control number: 7100-0306.

Frequency: On occasion.

Reporters: Bank holding companies.

Estimated annual reporting hours: 4 hours.

Estimated average hours per response: 2 hours.

Number of respondents: 2.

General description of report: This information collection is required to obtain a benefit. (12 U.S.C. 1843(c)(8), (j) and (k)) and may be given confidential treatment upon request (5 U.S.C. 552(b)(4)).

Abstract: Bank holding companies submit this notification to request permission to administer the 49-percent revenue limit on nonfinancial data processing activities on a business-line or multiple-entity basis. A request may be filed in a letter form; there is no reporting form for this information collection.

Current Actions: On March 25, 2010, the Federal Reserve published a notice in the Federal Register (75 FR 14440) seeking public comment for 60 days on the proposal to extend, without revision, the Notification of Nonfinancial Data Processing Activities. The comment period for this notice expired on May 24, 2010. The Federal Reserve did not receive any comments.

Board of Governors of the Federal Reserve System, June 3, 2010.
Jennifer J. Johnson,
Secretary of the Board.

[FR Doc. 2010-13760 Filed 6-7-10; 8:45 am]

BILLING CODE 6210-01-P